DEPARTMENT OF TRANSPORTATION

Federal Aviation Administration

RTCA Special Committee 135/EUROCAE Working Group 14: Environmental Conditions and Test Procedures for Airborne Equipment

AGENCY: Federal Aviation Administration (FAA), DOT.

ACTION: Notice of RTCA Special Committee 135/EUROCAE Working Group 14 meeting.

SUMMARY: The FAA is issuing this notice to advise the public of a meeting of RTCA Special Committee 135: Environmental Conditions and Test Procedures for Airborne Equipment.

DATES: The meeting will be held March 18-20, 2003 starting at 10 a.m.

ADDRESSES: The meeting will be held at EUROCAE, 17, Rue Hamelin, Cedix 15, Paris, France 75116.

FOR FURTHER INFORMATION CONTACT: (1) RTCA Secretariat, 1828 L Street, NW., Suite 805, Washington, DC 20036; telephone (202) 833-9339; fax (202) 833-9434; Web site http://www.rtca.org, (2) Francis Grmal, at EUROCAE in Paris; Tel: 33-1-45-05-7188.

SUPPLEMENTARY INFORMATION: Pursuant to section 10(a)(2) of the Federal Advisory Committee Act (Pub. L. 92-463, 5 U.S.C., Appendix 2), notice is hereby given for a Special Committee 135 meeting. The agenda will include:

• March 18

• Opening Plenary Session (Welcome and Introductory Remarks, Recognize Federal Representative, Approve Minutes of Previous Meeting)

• Appointment of the Function of WG-14 Security

• Recall of the ED-14/DO-160 Update Process

• Status of the Update Proposals. Particular Cases—IMA, EED's and PED's

• Subgroup Meetings (Address General Issues and Table of Proposed Changes, Identify Associated Tasks and Planning)

• SG-1: Climatic and Mechanic

• SG-2: Electric and Electromagnetic

• March 19

• Continue Subgroup Meetings

• March 20

• Closing Plenary Session (Debrief of Subgroup Meetings, New/Unfinished Business, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 20, 2003.
Janice L. Peters,
FAA Special Assistant, RTCA Advisory Committee.

[FR Doc. 03-5458 Filed 3-6-03; 8:45 am]

BILLING CODE 4910-13-M